Title 3—

The President

Proclamation 10789 of August 2, 2024

National Health Center Week, 2024

By the President of the United States of America

A Proclamation

Federally funded community health centers are a lifeline for over 30 million Americans nationwide—providing affordable access to quality medical, dental, and behavioral health services, which save lives. Community health center sites are especially critical for people in Tribal, rural, and underserved communities because they are often the closest and most convenient sources of care. During National Health Center Week, we recognize the importance of the nearly 1,400 federally funded community health centers that provide critical services to Americans. We express our gratitude to their dedicated staff, who tirelessly devote themselves to the well-being of their patients. And we recommit to ensuring that every American has access to good-quality, affordable health care.

I have seen firsthand just how vital community health centers are to our entire Nation. At the height of the COVID-19 pandemic, we invested $7.6 billion in our Nation's health center network so Americans could get the care they needed, no matter their background or zip code. It worked. For example, health centers distributed over 20 million COVID-19 vaccines—2 out of 3 went to people of color, and 2 out of 10 went to rural residents. And every day, health centers have empowered Americans to access the affordable, quality health care services they need—from cancer screenings and maternal health care to telehealth services that reach people where they are.

Community health centers play a key role in making sure health care is a right in this country, not a privilege—that is why my Administration is investing in them at a historic rate. My Budget would put the Health Center Program on a pathway to double in size. We have also delivered funding for community health centers to expand critical services, including substance use disorder treatments, behavioral health care, pregnancy-related care, and preventative cancer screenings.

At the same time, my Administration is lowering health care costs so every American has access to the care that they need. We strengthened the Affordable Care Act, and more people in this country have health care coverage under my Administration than ever before. We are also capping total prescription drug costs for seniors on Medicare at $2,000 per year, even for expensive medications. We slashed the price of insulin to $35 per month for seniors on Medicare, down from as much as $400 per month. And we finally beat Big Pharma by giving Medicare the power to negotiate lower drug prices.

During National Health Center Week, we honor all of the health center staff, who sacrifice so much to care for the health and well-being of their communities. We celebrate the impact of health centers across the country, and we recommit to supporting their efforts and their vision—a future where everyone has access to affordable, quality health care.

NOW, THEREFORE, I, JOSEPH R. BIDEN JR., President of the United States of America, by virtue of the authority vested in me by the Constitution and the laws of the United States, do hereby proclaim the week of August 4 through August 10, 2024, as National Health Center Week.

IN WITNESS WHEREOF, I have hereunto set my hand this second day of August, in the year of our Lord two thousand twenty-four, and of the Independence of the United States of America the two hundred and forty-ninth.

[FR Doc. 2024-17775

Filed 8-7-24; 8:45 am]

Billing code 3395-F4-P